DEPARTMENT OF DEFENSE

Department of the Army

Board of Visitors, United States Military Academy

AGENCY: Department of the Army, DoD.

ACTION: Notice of open meeting.

SUMMARY: In accordance with section 10(a)(2) of the Federal Advisory Committee Act (Pub. L. 92-463), announcement is made of the following committee meeting:

Name of Committee: Board of Visitors, United States Military Academy.

Date: Wednesday, March 5, 2003.

Place of Meeting: Veteran Affairs Conference Room, Room 418, Senate Russell Office Building, Washington, DC.

Start Time of Meeting: Approximately 10 a.m.

FOR FURTHER INFORMATION CONTACT: Lieutenant Colonel Edward C. Clarke, United States Military Academy, West Point, NY 10996-5000, (845) 938-4200.

SUPPLEMENTARY INFORMATION: Proposed Agenda: Organizational Meeting of the Board of Visitors. Receive updates on Academic, Military and Physical Programs, Athletic Program, Admissions at USMA and USMAPS. All proceedings are open.

Luz D. Ortiz,
Army Federal Register Liaison Officer.

[FR Doc. 03-3245 Filed 2-7-03; 8:45 am]

BILLING CODE 3710-08-M